DEPARTMENT OF ENERGY

Southeastern Power Administration

Proposed Rate Adjustment for the Jim Woodruff Project

AGENCY: Southeastern Power Administration, DOE.

ACTION: Notice of public hearing and opportunities for review and comment.

SUMMARY: Southeastern proposes replacing Wholesale Power Rate Schedules JW-1-E and JW-2-B with new Wholesale Rate Schedules JW-1-F and JW-2-C effective September 20, 2000. Rate Schedules JW-1-F and JW-2-C will remain in effect through September 19, 2005. Rate Schedule JW-1-F is applicable to Southeastern power sold to existing preference customers in the Florida Power Corporation Service area. Rate Schedule JW-2-C is applicable to Florida Power Corporation.

Opportunities will be available for interested persons to review the present and proposed rates, and the supporting studies and to participate in a hearing and to submit written comments. Southeastern will consider all comments received in this process.

DATES: Written comments are due on or before June 15, 2000. A public information and public comment forum will be held in Tallahassee, Florida, at 10 a.m. on May 3, 2000. Persons desiring to speak at the forum must notify Southeastern at least seven (7) days before the forum is scheduled so that a list of forum participants can be prepared. Others present at the forum may speak if time permits. Persons desiring to attend the forum should notify Southeastern at least seven (7) days before the forum is scheduled. The forum will be canceled with no further notice unless Southeastern has been notified by close of business on April 24, 2000, that at least one person intends to be present at the forum.

ADDRESSES: Five copies of written comments should be submitted to: Charles Borchardt, Administrator, Southeastern Power Administration, Department of Energy, Samuel Elbert Building, Elberton, Georgia 30635. The public comment Forum will meet at the Courtyard by Marriott, 1018 Apalachee Parkway, Tallahassee, Florida 32301, Phone (850) 222-8822.

FOR FURTHER INFORMATION CONTACT: Leon Jourolmon, Assistant Administrator, Finance and Marketing Division, Southeastern Power Administration, Department of Energy, Samuel Elbert Building, Elberton, Georgia 30635, (706) 213-3800.

SUPPLEMENTARY INFORMATION: Existing rate schedules are supported by a March 1995 Repayment Study and other supporting data contained in FERC Docket EF95-3031-000. A repayment study prepared in March 2000 shows that the existing rates are not adequate to meet repayment criteria. A revised repayment study with a revenue increase of $237,000, or 4.3 percent, demonstrates that all costs are paid within their repayment life thus satisfying the repayment criteria. The increase is primarily due to costs associated with the rehabilitation of the project. Southeastern is proposing to raise rates to recover this additional $237,000.

The capacity charge in the proposed Wholesale Power Rate Schedule JW-1-F has been raised from $5.13 per kilowatt per month to $5.52 per kilowatt per month. The energy charge has been increased from 15.2 mills per kilowatt-hour to 15.49 mills per kilowatt-hour. Proposed Wholesale Power Rate Schedule JW-2-C, raises the rate from 60 percent of the Florida Power Corporation's fuel cost to 63 percent of the Corporation's fuel cost.

The studies are available for examination at the Samuel Elbert Building, Elberton, Georgia 30635, as are the 1995 repayment study and the proposed Rate Schedules.

Dated: March 1, 2000.
Charles A. Borchardt,
Administrator.

[FR Doc. 00-6677 Filed 3-16-00; 8:45 am]

BILLING CODE 6450-01-P